DEPARTMENT OF THE TREASURY

Alcohol and Tobacco Tax and Trade Bureau

27 CFR Part 9

[Docket No. TTB-2019-0003; Notice No. 181]

RIN: 1513-AC52

Proposed Establishment of the Tualatin Hills and Laurelwood District Viticultural Areas

AGENCY: Alcohol and Tobacco Tax and Trade Bureau, Treasury.

ACTION: Notice of proposed rulemaking.

SUMMARY: The Alcohol and Tobacco Tax and Trade Bureau (TTB) proposes to establish the approximately 144,000-acre “Tualatin Hills” viticultural area in portions of Multnomah and Washington Counties, in Oregon. TTB is also proposing to establish the approximately 33,600-acre “Laurelwood District” viticultural area in portions of Washington and Yamhill Counties, in Oregon. TTB is proposing these two viticultural areas simultaneously because, if established, a small portion of their boundaries would be contiguous. Both proposed viticultural areas are located entirely within the existing Willamette Valley viticultural area, and the proposed Laurelwood District viticultural area is also located entirely within the existing Chehalem Mountains viticultural area. TTB designates viticultural areas to allow vintners to better describe the origin of their wines and to allow consumers to better identify wines they may purchase. TTB invites comments on this proposed addition to its regulations.

DATES: Comments must be received by August 19, 2019.

ADDRESSES: Please send your comments on this notice to one of the following addresses:

• Internet: http://www.regulations.gov (via the online comment form for this notice as posted within Docket No. TTB-2019-0003 at “Regulations.gov,” the Federal e-rulemaking portal);

• U.S. Mail: Director, Regulations and Rulings Division, Alcohol and Tobacco Tax and Trade Bureau, 1310 G Street NW, Box 12, Washington, DC 20005; or

• Hand delivery/courier in lieu of mail: Alcohol and Tobacco Tax and Trade Bureau, 1310 G Street NW, Suite 400, Washington, DC 20005.

See the Public Participation section of this notice for specific instructions and requirements for submitting comments, and for information on how to request a public hearing or view or obtain copies of the petition and supporting materials.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01, dated December 10, 2013, (superseding Treasury Order 120-01, dated January 24, 2003), to the TTB Administrator to perform the functions and duties in the administration and enforcement of these provisions.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA;

• The appropriate United States Geological Survey (USGS) map(s) showing the location of the proposed AVA, with the boundary of the proposed AVA clearly drawn thereon;

• An explanation of the proposed AVA is sufficiently distinct from an existing AVA so as to warrant separate recognition, if the proposed AVA is to be established within, or overlapping, an existing AVA; and

• A detailed narrative description of the proposed AVA boundary based on USGS map markings.

Tualatin Hills Petition

TTB received a petition from Rudolf Marchesi, president of Montinore Estate, Alfredo Apolloni, owner and winemaker of Apolloni Vineyards, and Mike Kuenz, general manager of David Hill Vineyard and Winery, on behalf of themselves and other local grape growers and vintners, proposing the establishment of the “Tualatin Hills” AVA.

The proposed Tualatin Hills AVA is located west of the city of Portland and lies entirely within the established Willamette Valley AVA (27 CFR 9.90). If established, the proposed Tualatin Hills AVA would also share a small portion of its southeastern boundary with a small portion of the northwestern boundary of the proposed Laurelwood District AVA. The proposed AVA covers approximately 144,000 acres and contains 21 wineries and 33 commercially-producing vineyards that cover a total of approximately 860.5 acres.

The distinguishing features of the proposed Tualatin Hills AVA are its soils, elevation, and climate. Unless otherwise noted, all information and data pertaining to the proposed AVA contained in this document are from the petition for the proposed Tualatin Hills AVA and its supporting exhibits.

Name Evidence

The proposed Tualatin Hills AVA is a region of upland hills within the Tualatin River watershed in northwestern Oregon. The petition provided evidence that the region is commonly referred to as the “Tualatin Hills.” For example, a hiking trail in the region is called the Tualatin Hills Nature Park Loop. The petition also states that the Tualatin Hills Nature Park, the Tualatin Hills Parks and Recreation District, and Tualatin Hills Christian Church serve the proposed AVA. Finally, several sporting organizations serving the region use the name “Tualatin Hills,” including the Tualatin Hills Junior Soccer League, the Tualatin Hills Barracudas adult swim team, the Tualatin Hills Water Polo Club, the former Tualatin Hills Tennis Center, and the Tualatin Hills Dive Club.

Boundary Evidence

The proposed Tualatin Hills AVA is a roughly C-shaped region of hills west of Portland, Oregon, in the hills of the Tualatin River watershed. According to the petition, the proposed AVA's boundaries are drawn to separate the proposed AVA from regions with different soils, elevations, and climate. The proposed northern and western boundaries follow the 1,000-foot elevation contour and separate the proposed AVA from the higher elevations within the Coast Range. The proposed northern and western boundaries also coincide with the boundary of the established Willamette Valley AVA. The southern and southeastern boundaries are drawn to exclude the established Chehalem Mountains AVA (27 CFR 9.205), which contains higher elevations and a greater concentration of sedimentary, alluvial, and volcanic soils than the proposed AVA. The southeastern boundary also separates the proposed Tualatin Hills AVA from the proposed Laurelwood District AVA. The eastern boundary separates the proposed Tualatin Hills AVA from the heavily urbanized regions of metro Portland. Additionally, the region east of the proposed AVA has generally lower elevations and flatter topography, as well as deep alluvial soils that are different from the soils of the proposed AVA.

Distinguishing Features

The distinguishing features of the proposed Tualatin Hills AVA are its soils, elevation, and climate.

Soils

The petition states that the soils of the proposed Tualatin Hills AVA are primarily Laurelwood soils and similar associated types, with almost no exposed volcanic or marine sedimentary soil types.¹ The Laurelwood and associated soils are unique to the northwestern portion of the established Willamette Valley AVA, which includes the proposed Tualatin Hills AVA. According to the petition, the only place outside the proposed AVA where Laurelwood soils occur is on the northeast-facing slopes of the established Chehalem Mountains AVA, within the proposed Laurelwood District AVA. However, the petition notes that the Laurelwood soils within the Chehalem Mountains AVA are frequently mixed with volcanic, sedimentary, and alluvial soils.

¹ See Petition to create the Laurelwood District American Viticultural Area, Appendices 2-3 and Figure 2, available for review in the docket for this rulemaking at “Regulations.gov” (These materials contain analyses of Laurelwood soil).

Laurelwood soils are formed from weathered basalt combined with windblown silt known as loess. The soils are fine, silty soils with no rocks and generally have low levels of organic material and a high clay content. The soils are considered to be moderately fertile and, therefore, do not promote overly vigorous vine growth. The soils reach depths of up to 100 feet. The depth of the soils, combined with the high clay content, reduces the need for irrigation in most vineyards within the proposed AVA.

Laurelwood soils also contain small, round iron manganese structures called “pisolites,” which range in size from a grain of sand to a pea. These pisolites are found only in Laurelwood soils and, according to the petition, affect the taste and smell of wines. For example, the petition asserts that the pisolites contribute to the rose-petal aroma of Pinot Noir wines made from grapes grown in the Laurelwood soils of the proposed AVA.

To the north of the proposed Tualatin Hills AVA, the soils formed primarily from volcanic material from eruptions near the Oregon-Washington-Idaho border between 6 and 17 million years ago and contain very little loess and no Laurelwood series soils. West of the proposed AVA, the soils are primarily Coastal sediment soils originating from volcanic soils and marine uplifted soils that formed 50 million years ago. To the south of the proposed AVA within the established Chehalem Mountains AVA, the soils are also formed primarily from marine sediments, although the soils are sometimes striated with older decomposing basalt and volcanic materials. To the east of the proposed AVA, the soils are primarily formed from Columbia River basalt and sedimentary materials.

Elevation

The proposed Tualatin Hills AVA is located in the upland hills of the Tualatin River watershed and encompasses elevations between 200 and 1,000 feet. According to the petition, 1,000 feet is generally considered the upper limit for growing commercial wine grapes in this region of Oregon, and there are very few commercial vineyards above that elevation. At higher elevations, there is a danger of late spring frosts, which can delay bud break and damage new growth, as well as a danger of early fall frosts, which can damage fruit that has not been harvested. The petition notes that the 1,000-foot elevation contour also corresponds to the boundary of the established Willamette Valley AVA, which shares a portion of its boundary with the proposed AVA.

The boundaries of the proposed AVA were drawn to exclude elevations below 200 feet because, according to the petition, the lower elevations have characteristics that are significantly different from those of the proposed AVA. For instance, soils in the surrounding regions with elevations below 200 feet are alluvial, rather than loess. As a result, the soils below 200 feet are generally higher in fertility and less well-drained than the soils within the proposed AVA. Highly fertile soils can cause overly vigorous vine growth, and poorly drained soils can promote the growth of mold and mildew on the vines. Furthermore, the petition states that elevations below 200 feet are relatively flat and thus experience less air movement than the surrounding higher elevations. Cold air can drain from the hillsides, reducing the risk of frost in hillside vineyards, but the cold air will pool in the lower, flatter regions and increase the risk of frost there. Additionally, air moving down the hillsides can also prevent the growth of mold and mildew on hillside vineyards by drying excess moisture from the vines.

The proposed AVA is surrounded to the north and west by the higher elevations of the Coastal Range. Elevations typically exceed 1,000 feet in these regions. To the east of the proposed AVA is the broad, flat plain of the Tualatin River Valley, where elevations are generally below 200 feet. The petition notes that there is a small region between the northeast corner and the southeast corner of the proposed AVA that has similar elevations to the proposed AVA. However, this region was not included in the proposed AVA because it is within the urban development zone of metro Portland and is currently used for commercial and residential buildings and public parks; there is no commercial viticulture in this area. To the south and southeast of the proposed AVA are the Chehalem Mountains, which includes elevations of over 1,000 feet and, according to the petition, is considered to be a separate, distinct landform from the uplands within the proposed Tualatin Hills AVA.

Climate ²

² Climate data gathered from 1981-2010 climate normals, which were the most recent climate normals available at the time the petition was submitted.

The proposed Tualatin Hills AVA is located in the rain shadow of the Oregon Coast Range (Coast Range). According to the petition, the higher elevations of the Coast Range create a buffer to the maritime influences of the Pacific Ocean, which is approximately 45 miles west of the proposed AVA. As a result, the proposed AVA receives less rainfall annually than the regions to the north and west, which are more exposed to the moisture-laden marine air. Forest Grove, Oregon, which is located roughly in the center of the proposed AVA, receives an average of 43.67 inches of rainfall annually, while St. Helens to the north of the proposed AVA receives 50 inches, and Tillamook State Forest to the west of the proposed AVA receives 87.99 inches. Portland, which is approximately 30 miles east of the proposed AVA and farther within the rain shadow of the Coast Range, receives slightly less rainfall than the proposed AVA, averaging 41.96 inches. McMinnville, which is approximately 20 miles south of the proposed AVA, has an average annual rainfall amount of 42.15 inches. The petition states that without the sheltering effect of the Coast Range, rainfall amounts in the proposed AVA would be similar to those of the regions to the west and north. Excessively high rainfall amounts can promote the growth of mold and mildew, which can seriously damage grape vines.

The petition also discussed the diurnal temperature variations that occur within the proposed AVA and the surrounding regions. Diurnal temperature variation is the difference between the daytime high temperature and the nighttime low temperature. The proposed Tualatin Hills AVA has an average growing season diurnal variation of 23.75 degrees Fahrenheit (F). The regions to the north, east, and west of the proposed AVA have lower diurnal temperature variations, averaging 20.79, 20.13, and 19.13 degrees F, respectively. The region to the south has a higher average diurnal variation, with 25.63 degrees F.

According to the petition, diurnal temperature variations during the growing season have an effect on viticulture. Sugar levels increase and acid levels decrease in grapes as daytime temperatures increase. If ripening progresses too quickly due to high daytime temperatures, the desired sugar and acid levels could be reached before the flavor and aroma compounds in the grapes have fully developed. If nighttime temperatures remain high, the process of sugar development and acid loss will continue at night. However, a drop in nighttime temperatures will stop or slow the process of sugar development and acid loss, allowing the grapes more time to develop the flavor and aroma compounds. The greater the drop in temperatures, the more the sugar development and acid loss will slow. The petition states that the diurnal temperature differences in the proposed AVA are well suited for growing Pinot Noir, which is the most commonly grown grape varietal in the proposed AVA and requires a long ripening period in order to fully develop its flavor and aroma compounds.

Summary of Distinguishing Features

In summary, the soils, elevation, and climate of the proposed Tualatin Hills AVA distinguish it from the surrounding regions. The proposed AVA is characterized by Laurelwood soils and similar associated types and a lack of exposed volcanic or marine sedimentary soils. Although Laurelwood soils are present outside of the proposed AVA, within the Chehalem Mountain range, they are typically mixed with volcanic and sedimentary soils. The elevations of the proposed AVA are between 200 and 1,000 feet, while the regions to the west, north, southeast, and south are higher and the region to the east is lower. Finally, the climate of the proposed AVA is distinguishable from that of the surrounding regions. The proposed AVA receives less annual rainfall than the regions to the north and west, and more rainfall than the regions to the east and south. The average growing season diurnal temperature variations within the proposed AVA are higher than those of each of the surrounding regions except the region to the south.

Comparison of the Proposed Tualatin Hills AVA to the Existing Willamette Valley AVA

T.D. ATF-162, which published in the Federal Register on December 1, 1983 (48 FR 232, as amended by T.D. TTB-134, 81 FR 11112, March 3, 2016), established the Willamette Valley AVA in northwestern Oregon (27 CFR 9.90). The Willamette Valley AVA is described in T.D. ATF-162 as a large basin surrounded by mountains to the east, south, and west, and by the Columbia River to the north. Within the Willamette Valley AVA, elevations generally do not exceed 1,000 feet. Temperatures are mild, with annual summer temperatures averaging 68 degrees F and winter temperatures averaging 40 degrees F. Annual rainfall amounts within the Willamette Valley AVA average 40 inches. Soils within the AVA are silty loams and clay loams.

The proposed Tualatin Hills AVA is located in the northwestern portion of the Willamette Valley AVA and shares some broad characteristics with the established AVA. For example, elevations within the proposed AVA are generally below 1,000 feet. Average annual high and low temperatures are also within the ranges found in the Willamette Valley AVA. Finally, the soils of the proposed AVA contain silt and clay.

However, the proposed AVA also has characteristics that are distinct from the Willamette Valley AVA. For example, the Laurelwood soils and associated soil series are the predominant soils of the proposed AVA and are not found in significant amounts elsewhere in the Willamette Valley AVA. Additionally, the proposed AVA is comprised mainly of rolling hills and lacks the large valley floors that are a major feature of the Willamette Valley AVA. Finally, annual rainfall amounts within the proposed Tualatin Hills AVA are slightly higher than the average amount for the Willamette Valley AVA in general.

Laurelwood District Petition

TTB received a petition from Luisa Ponzi, president of Ponzi Vineyards, Maria Ponzi, winemaker of Ponzi Vineyards, and Kevin Johnson, winemaker of Dion Vineyards, on behalf of themselves and other local grape growers and vintners, proposing the establishment of the “Laurelwood” AVA. However, at the request of TTB, the petitioners agreed to add the word “District” to the proposed name, in order to avoid a potential impact on current label holders who are using “Laurelwood” as a brand name or fanciful name on their wine labels.

The proposed Laurelwood District AVA is located west of the city of Portland and lies entirely within the established Willamette Valley AVA and the established Chehalem Mountains AVA. If established, the proposed Laurelwood District AVA would also share a small portion of its northwestern boundary with a portion of the southeastern boundary of the proposed Tualatin Hills AVA. The proposed Laurelwood District AVA covers approximately 33,600 acres and contains 25 wineries and approximately 70 commercially-producing vineyards that cover a total of approximately 975 acres.

The proposed Laurelwood District AVA has a roughly oblong shape and is oriented along a northwest-to-southeast axis. The distinguishing feature of the proposed AVA is its soils. Unless otherwise noted, all information and data pertaining to the proposed AVA contained in this document are from the petition for the proposed Laurelwood District AVA and its supporting exhibits.

Name Evidence

The unincorporated town of Laurelwood is adjacent to the western boundary of the proposed Laurelwood District AVA. Although the town of Laurelwood is not within the proposed AVA, the name Laurelwood has become associated with a larger region, including the region of the proposed AVA. For example, the “Ananda Center at Laurelwood” retreat, which is located in the community of Laurelwood, describes its location as “[w]ithin minutes of Laurelwood Valley,” ³ suggesting that the region known as “Laurelwood” encompasses more than just the town. Furthermore, the proposed AVA is served by the Laurelwood Academy Water Cooperative,⁴ and Laurelwood Road is located within the proposed AVA. A real estate listing included with the petition advertises houses “in peaceful Laurelwood valley,” ⁵ and a separate real estate listing makes reference to “the peaceful community of Laurelwood.” ⁶ Finally, one of the U.S.G.S. quadrangle maps used to create the boundary of the proposed AVA is titled “Laurelwood.”

³ See Ananda Center—Laurelwood, (Site last accessed February 15, 2019), www.anandalaurelwood.org/about/area.

⁴ See Laurelwood Academy Water Cooperative, (Site last accessed February 15, 2019), www.lawatercoop.org.

⁵ See Redfin listing for 13200 SW Noblitt Place, Gaston, Oregon 97119, (Site last accessed February 15, 2019), https://www.redfin.com/OR/Gaston/13200-SW-Noblitt-Pl-97119/home/26692046.

⁶ See Redfin listing for 13875 SW 405 Place, Gaston, Oregon 97119, (Site last accessed February 15, 2019), https://www.redfin.com/OR/Gaston/13875-SW-405th-Pl-97119/home/108521174.

The petition notes that the community of Laurelwood also gives its name to the primary soil series within the proposed AVA, the Laurelwood soil series. The petition includes an excerpt from a soil survey of Washington County, Oregon, which notes that a “[r]epresentative profile of Laurelwood silt loam” is “located at the top of Iowa Hill.” Iowa Hill is located within the northern portion of the proposed Laurelwood District AVA. The petition goes on to say that the pervasiveness of Laurelwood soils within the proposed AVA is the primary reason the region is known to those in the wine industry as “Laurelwood.” As evidence, the petition included a 2016 pamphlet from a trade tasting featuring wines from the Chehalem Mountains AVA, which contains a map that divides the AVA into several sub-regions—including a region called “Laurelwood” that encompasses the proposed AVA. The petition also included excerpts from several articles describing the importance of Laurelwood soil to vineyard owners within the proposed AVA and the effects of the soil on the resulting wines. Finally, the petition included wine labels and wine trade notes from several wineries within the proposed AVA, including Ponzi Vineyards,⁷ Anne Amie Vineyards,⁸ Raptor Ridge Winery,⁹ Alloro Vineyard,¹⁰ and Erath Winery,¹¹ which all mention the presence of Laurelwood soils in their vineyards.

⁷ See Ponzi Vineyards, Notes from Luisa, (Site last accessed February 15, 2019), https://www.ponzivineyards.com/assets/images/products/media/14-Abetina-PN-Notes.pdf.

⁸ See Announcement for 2013 Anne Amie Vineyards Twelve Oaks Estate Chehalem Mountains AVA, (Site last accessed February 15, 2019), Anneamiewine.s3.amazonaws.com/demo1/wp-content/uploads/13-TOE-PN.pdf.

⁹ See Announcement for Raptor Ridge Winery—2014 Pinot Noir, Estate Vineyard, (Site last accessed February 15, 2019), www.raptorridgewinery.com/assets/client/File/2014%20PN%20Estate%20Vineyard%20Media%20Sheet.pdf.

¹⁰ See Announcement for Alloro Vineyard—2014 Estate ‘Justina' Pinot Noir, (Site last accessed February 15, 2019), https://www.allorovineyard.com/assets/client/File/AlloroJusPN14%20TechSheet.pdf.

¹¹ See Announcement for Erath Winery—2014 Dion Vineyard Pinot Noir, (Site last accessed February 15, 2019), https://www.erath.com/files/FileResource/22244/ERAFS2014DionVineyardPinotN.pdf.

Boundary Evidence

The proposed Laurelwood District AVA is located in the Chehalem Mountains west of the cities Portland and Sherwood and south of the cities of Forest Grove, Cornelius, Hillsboro, and Scholls. According to the petition, the boundaries are drawn to separate the proposed AVA from regions where the Laurelwood soil is nonexistent or not as pervasive as it is within the proposed AVA. The northern and eastern boundaries of the proposed AVA are concurrent with the boundary of the established Chehalem Mountains AVA and separate the proposed AVA from both the Tualatin Valley and the proposed Tualatin Hills AVA. The southern and western boundaries of the proposed Laurelwood District AVA follow the crest of the Chehalem Mountains, and separate the northeasterly-oriented slopes of the proposed AVA from the southwesterly-facing slopes of the western portion of the Chehalem Mountains.

Distinguishing Feature

According to the petition, the distinguishing feature of the proposed AVA is the predominance of the Laurelwood soil series. Although Laurelwood soil exists outside the proposed Laurelwood District AVA, specifically within the proposed Tualatin Hills AVA to the northwest, the petition states that there are differences between the Laurelwood soil of the proposed Laurelwood District AVA and the Laurelwood soil of the proposed Tualatin Hills AVA. For instance, the Laurelwood soil of the proposed Laurelwood District AVA consist of loess combined with basalt that is older than the basalt found in the Laurelwood soil of the proposed Tualatin Hills AVA. However, the petition states that the primary distinction between the soils of the two proposed AVAs is the contiguity of Laurelwood soil within the proposed Laurelwood District AVA. Within the proposed Tualatin Hills AVA, large concentrations of Laurelwood soil are dispersed throughout, separated by smaller regions without Laurelwood soils. By contrast, within the proposed Laurelwood District AVA, Laurelwood soil covers the entirety of the proposed AVA. Additionally, within the proposed Tualatin Hills AVA, Laurelwood soil is often mixed with related soil series, particularly Kinton and Cornelius soils. Within the proposed Laurelwood District AVA, Kinton and Cornelius soils exist only in small, isolated pockets along the eastern edge.

As previously mentioned, Laurelwood soil is desirable for vineyards because its moderate fertility does not cause overly vigorous growth and the depth to bedrock is sufficient to allow the vine's roots to penetrate deeply into the soil. Because the proposed Laurelwood District AVA has such a large concentration of Laurelwood soils, there are more potential locations for vineyards with this soil than there are within the proposed Tualatin Hills AVA.

To the east and northeast of the proposed Laurelwood District AVA, the soils are a variety of soils derived from the sediments of the Missoula Floods. To the southwest of the proposed AVA, within the Chehalem Mountains AVA, the soils are primarily Jory and Willakenzie soils. To the southeast of the proposed AVA, on Parrett Mountain, the soils are primarily of the Jory and Saum series.

Comparison of the Proposed Laurelwood District AVA to the Existing Willamette Valley AVA

T.D. ATF-162, which published in the Federal Register on December 1, 1983, (48 FR 232, as amended by T.D. TTB-134, 81 FR 11112, March 3, 2016), established the Willamette Valley AVA in northwestern Oregon (27 CFR 9.90). The Willamette Valley AVA is described in T.D. ATF-162 as a large basin surrounded by mountains to the east, south, and west, and by the Columbia River to the north. Within the Willamette Valley AVA, elevations generally do not exceed 1,000 feet. Temperatures are mild, with annual summer temperatures averaging 68 degrees F and winter temperatures averaging 40 degrees F. Annual rainfall amounts within the Willamette Valley AVA average 40 inches. Soils within the AVA are silty loams and clay loams.

The proposed Laurelwood District AVA is located in the northwestern portion of the Willamette Valley AVA and shares several characteristics with the larger established AVA. For example, both the proposed AVA and the established AVA are within the rain shadow of the Cascade Mountains. As a result, both share similar annual rainfall amounts of between 40 and 50 inches. The average growing season temperatures within the proposed AVA are also similar to those of the established Willamette Valley AVA, as demonstrated by the number of growing degree days (GDDs) in both regions. According to a climate map included in the petition, both regions average between 1,500 and 2,000 GDDs.

However, the proposed Laurelwood District AVA also has characteristics that are distinct from the Willamette Valley AVA. For example, the Laurelwood soils are the predominant soils of the proposed AVA and are not found in significant amounts elsewhere in the Willamette Valley AVA, with the exception of the proposed Tualatin Hills AVA. The petition states that the primary soils for grape growing in the majority of the Willamette Valley AVA are Willakenzie, which is derived from marine sediments, and Jory, which is comprised of residuum derived from basalt. Additionally, the proposed Laurelwood District AVA does not contain broad valleys, which are found throughout the established Willamette Valley AVA.

Comparison of the Proposed Laurelwood District AVA to the Existing Chehalem Mountains AVA

T.D. TTB-56, which published in the Federal Register on November 27, 2006 (71 FR 68458), established the Chehalem Mountains AVA (27 CFR 9.205) in northwestern Oregon, in the northern region of the Willamette Valley AVA. The Chehalem Mountains AVA is described in T.D. TTB-56 as a single, continuous landmass lifted from the floor of the Willamette Valley. The Chehalem Mountains AVA are bordered by the valley of the Tualatin River to the west and north, the wetlands of Rock Creek and Seely Ditch to the east, the floodplain of the Willamette River to the southeast, and the Chehalem Valley to the southwest. The topography of the AVA is characterized by mountainous and hillside terrain, with elevations between 200 and 1,600 feet. Most of the vineyards within the AVA are planted at elevations between 200 and 1,000 feet.

The proposed Laurelwood District AVA shares some of the same characteristics of the larger Chehalem Mountains AVA. For example, the proposed AVA consists of hilly-to-mountainous terrain, and vineyards within the proposed AVA are planted at elevations between 200 and 1,000 feet. However, the Chehalem Mountains AVA contains a wide diversity of soils. The proposed Laurelwood District AVA, by contrast, is dominated by Laurelwood soil, which is not found in the remainder of the Chehalem Mountains AVA.

TTB Determination

TTB concludes that the petitions to establish the approximately 144,000-acre Tualatin Hills AVA and the approximately 33,600-acre Laurelwood District AVA merit consideration and public comment, as invited in this notice of proposed rulemaking.

Boundary Description

See the narrative description of the boundary of the petitioned-for AVAs in the proposed regulatory text published at the end of this proposed rule.

Maps

The petitioners provided the required maps, and they are listed below in the proposed regulatory text.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes the proposed Tualatin Hills AVA, its name, “Tualatin Hills,” will be recognized as a name of viticultural significance under § 4.39(i)(3) of the TTB regulations (27 CFR 4.39(i)(3)). The text of the proposed regulation clarifies this point. Consequently, wine bottlers using the name “Tualatin Hills” in a brand name, including a trademark, or in another label reference as to the origin of the wine, would have to ensure that the product is eligible to use the AVA name as an appellation of origin if this proposed rule is adopted as a final rule. TTB is not proposing “Tualatin,” standing alone, as a term of viticultural significance if the proposed AVA is established, in order to avoid a potential conflict with a current label holder. Accordingly, the proposed part 9 regulatory text set forth in this document specifies only the full name “Tualatin Hills” as a term of viticultural significance for purposes of part 4 of the TTB regulations.

The approval of the proposed Tualatin Hills AVA would not affect any existing AVA, and any bottlers using “Tualatin Hills” as an appellation of origin or in a brand name for wines made from grapes grown within the Tualatin Hills AVA would not be affected by the establishment of this new AVA. The establishment of the proposed Tualatin Hills AVA would allow vintners to use “Tualatin Hills” and “Willamette Valley” as appellations of origin for wines made from grapes grown within the proposed Tualatin Hills AVA, if the wines meet the eligibility requirements for the appellation.

If TTB establishes the proposed Laurelwood District AVA, only its entire name, “Laurelwood District,” will be recognized as a name of viticultural significance under § 4.39(i)(3) of the TTB regulations (27 CFR 4.39(i)(3)). The text of the proposed regulation clarifies this point. Consequently, wine bottlers using the name “Laurelwood District” in a brand name, including a trademark, or in another label reference as to the origin of the wine, would have to ensure that the product is eligible to use the AVA name as an appellation of origin if this proposed rule is adopted as a final rule. TTB is not proposing “Laurelwood,” standing alone, as a term of viticultural significance if the proposed AVA is established, in order to avoid a potential conflict with current label holders. Accordingly, the proposed part 9 regulatory text set forth in this document specifies only the full name “Laurelwood District” as a term of viticultural significance for purposes of part 4 of the TTB regulations.

The approval of the proposed Laurelwood District AVA would not affect any existing AVA, and any bottlers using “Laurelwood District” as an appellation of origin or in a brand name for wines made from grapes grown within the Laurelwood District AVA would not be affected by the establishment of this new AVA. The establishment of the proposed Laurelwood District AVA would allow vintners to use “Laurelwood District,” “Chehalem Mountains,” and “Willamette Valley” as appellations of origin for wines made from grapes grown within the proposed Laurelwood District AVA, if the wines meet the eligibility requirements for the appellation.

Public Participation

Comments Invited

TTB invites comments from interested members of the public on whether it should establish the proposed AVAs. TTB is also interested in receiving comments on the sufficiency and accuracy of the name, boundary, climate, soils, and other required information submitted in support of the petitions. With regards to the proposed Tualatin Hills AVA, TTB is interested in comments on whether the evidence submitted in the petition regarding the distinguishing features of the proposed AVA sufficiently differentiates it from the existing Willamette Valley AVA, which the proposed AVA is located within, and from the proposed neighboring Laurelwood District AVA. TTB is also interested in comments on whether the geographic features of the proposed Tualatin Hills AVA are so distinguishable from the surrounding Willamette Valley AVA that the proposed AVA should no longer be part of the established AVA. Please provide any available specific information in support of your comments.

With regards to the proposed Laurelwood District AVA, TTB is interested in comments on whether the evidence submitted in the petition regarding the distinguishing features of the proposed AVA sufficiently differentiates it from both the existing Willamette Valley and Chehalem Mountains AVAs, both of which contain the proposed AVA, and from the proposed neighboring Tualatin Hills AVA. TTB is also interested in comments on whether the geographic features of the proposed Laurelwood District AVA are so distinguishable from the surrounding Willamette Valley and Chehalem Mountains AVAs that the proposed AVA should no longer be part of one or both of the existing AVAs. Please provide any available specific information in support of your comments.

Because of the potential impact of the establishment of the proposed Tualatin Hills AVA on wine labels that include the term “Tualatin Hills” and the proposed Laurelwood District AVA on wine labels that include the term “Laurelwood District,” as discussed above under Impact on Current Wine Labels, TTB is particularly interested in comments regarding whether there will be a conflict between the proposed AVA names and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this notice by using one of the following three methods:

• Federal e-Rulemaking Portal: You may send comments via the online comment form posted with this notice within Docket No. TTB-2019-0003 on “Regulations.gov,” the Federal e-rulemaking portal, at http://www.regulations.gov. A direct link to that docket is available under Notice No. 181 on the TTB website at https://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW, Box 12, Washington, DC 20005.

• Hand Delivery/Courier: You may hand-carry your comments or have them hand-carried to the Alcohol and Tobacco Tax and Trade Bureau, 1310 G Street NW, Suite 400, Washington, DC 20005.

Please submit your comments by the closing date shown above in this notice. Your comments must reference Notice No. 181 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2019-0003 on the Federal e-rulemaking portal, Regulations.gov, at http://www.regulations.gov. A direct link to that docket is available on the TTB website at https://www.ttb.gov/wine/wine_rulemaking.shtml under Notice No. 181. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this notice, all related petitions, maps and other supporting materials, and any electronic or mailed comments that TTB receives about this proposal by appointment at the TTB Information Resource Center, 1310 G Street NW, Suite 400, Washington, DC 20005. You may also obtain copies at 20 cents per 8.5- x 11-inch page. Please note that TTB is unable to provide copies of USGS maps or other similarly-sized documents that may be included as part of the AVA petition. Contact TTB's Regulations and Rulings Division at the above address, by email at https://www.ttb.gov/webforms/contact_RRD.shtm, or by telephone at 202-453-1039, ext. 175, to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.____to read as follows:

§ 9.____ Tualatin Hills.

(a) Name. The name of the viticultural area described in this section is “Tualatin Hills”. For purposes of part 4 of this chapter, “Tualatin Hills” is a term of viticultural significance.

(b) Approved maps. The 6 United States Geological Survey (USGS) 1:24,000 scale topographic maps and the single 1:250,000 scale topographic map used to determine the boundary of the Tualatin Hills viticultural area are titled:

(1) Vancouver, 1974 (1:250,000);

(2) Dixie Mountain, OR, 2014;

(3) Gaston, OR, 2014;

(4) Laurelwood, OR, 2014;

(5) Forest Grove, OR, 2014;

(6) Hillsboro, OR, 2014; and

(7) Linnton, OR, 2014.

(c) Boundary. The Tualatin Hills viticultural area is located in Clackamas, Multnomah and Washington Counties, in Oregon. The boundary of the Tualatin Hills viticultural area is as described below:

(1) The beginning point is on the Dixie Mountain map at the intersection of North West Skyline Boulevard and North West Moreland Road. From the beginning point, proceed southwesterly along North West Moreland Road for approximately 1.3 miles to road's intersection with the Multnomah-Washington County line; then

(2) Proceed south along the Multnomah-Washington County for approximately 1.2 miles to the county line's intersection with the 1,000-foot elevation contour; then

(3) Proceed northwesterly along the 1,000-foot elevation contour, crossing onto the Vancouver map and continuing generally southwesterly along the meandering 1,000-foot elevation contour to its intersection with the Washington-Yamhill County line; then

(4) Proceed east along the Washington-Yamhill County line, crossing onto the Gaston map, to the intersection of the county line with NW South Road; then

(5) Proceed northeast along NW South Road to its intersection with SW South Road; then

(6) Proceed northeasterly along SW South Road to its intersection with the 200-foot elevation contour; then

(7) Proceed easterly along the 200-foot elevation contour for approximately 1.9 miles to its intersection with East Main Street/SW Gaston Road in the village of Gaston; then

(8) Proceed south, then east along SW Gaston Road for approximately 0.9 mile, crossing onto the Laurelwood map, to the road's intersection with the 240-foot contour line just south of an unnamed road known locally as SW Dixon Mill Road; then

(9) Proceed north along the meandering 240-foot elevation contour for approximately 5 miles to its intersection with SW Sandstrom Road; then

(10) Proceed west along SW Sandstrom Road for approximately 0.15 mile to its third crossing of the 200-foot elevation contour; then

(11) Proceed northwesterly and then northeasterly along the meandering 200-foot contour line for approximately 2.9 miles to its intersection with an unnamed road known locally as SW Fern Hill Road, north of an unnamed road known locally as SW Blooming Fern Hill Road; then

(12) Proceed north along SW Fern Hill Road for approximately 1.2 miles, crossing onto the Forest Grove map, to the road's intersection with Oregon Highway 47; then

(13) Proceed northerly along Oregon Highway 47 for approximately 7.6 miles to its intersection with Oregon Highway 6/NW Wilson River Highway; then

(14) Proceed east along Oregon Highway 6/NW Wilson River Highway for approximately 2.5 miles to its intersection with Sunset Highway; then

(15) Proceed southeast along Sunset Highway for approximately 2.3 miles to its intersection with the railroad tracks; then

(16) Proceed east along the railroad tracks, crossing onto the Hillsboro map, to the intersection of the railroad tracks and an unnamed road known locally as NW Dick Road; then

(17) Proceed south along NW Dick Road for approximately 0.3 mile to its intersection with NW Phillips Road; then

(18) Proceed east along NW Phillips Road for approximately 1.2 miles, crossing onto the Linnton map, to the road's intersection with an unnamed road known locally as NW Old Cornelius Pass Road; then

(19) Proceed northeast along NW Old Cornelius Pass Road to its intersection with NW Skyline Boulevard Road; then

(20) Proceed north and west along NW Skyline Boulevard for approximately 10.5 miles, crossing over the northeast corner of the Hillsboro map and onto the Dixie Mountain map and then returning to the beginning point.

3. Subpart C is amended by adding § 9.____to read as follows:

§ 9.____ Laurelwood District.

(a) Name. The name of the viticultural area described in this section is “Laurelwood District”. For purposes of part 4 of this chapter, “Laurelwood District” is a term of viticultural significance.

(b) Approved maps. The six United States Geological Survey (USGS) 1:24,000 scale topographic maps used to determine the boundary of the Laurelwood District viticultural area are titled:

(1) Laurelwood, OR, 2014;

(2) Scholls, Oreg., 1961; photorevised 1985;

(3) Newberg, OR, 2014;

(4) Beaverton, Oreg., 1961; photorevised 1984;

(5) Sherwood, Oreg., 1961; photorevised 1985; and

(6) Dundee, Oreg., 1956; revised 1993.

(c) Boundary. The Laurelwood District viticultural area is located in Washington and Yamhill Counties, in Oregon. The boundary of the Laurelwood District viticultural area is as described below:

(1) The beginning point is on the Laurelwood map at the intersection of Winters Road and Blooming Fern Hill Road in section 17, T1S/R3W. From the beginning point, proceed west then northwest along Blooming Fern Hill Road for approximately 0.4 mile to its intersection with the 200-foot elevation contour; then

(2) Proceed north then northeasterly along the 200-foot elevation contour for 1.5 miles to its intersection with SW La Follette Road; then

(3) Proceed south along SW La Follette Road for 0.25 mile to its intersection with the 240-foot elevation contour, north of Blooming Fern Hill Road; then

(4) Proceed easterly then southerly along the 240-foot elevation contour, crossing onto the Scholls map and back onto the Laurelwood map, for a total of 17 miles to the intersection of the elevation contour with SW Laurel Road; then

(5) Proceed east along SW Laurel Road for 0.15 mile to its intersection with the 200-foot elevation contour; then

(6) Proceed easterly along the 200-foot elevation contour, crossing over the Scholls map and onto the Newberg map, then crossing Heaton Creek and back onto the Scholls map for a total of 17.5 miles to the intersection of the elevation contour with Mountain Home Road east of Heaton Creek; then

(7) Proceed easterly then southerly along the 200-foot elevation contour, crossing over the Beaverton and Sherwood maps and back onto the Scholls map for a total of 8.9 miles to the intersection of the elevation contour with the middle tributary of an unnamed stream along the western boundary of section 24, T2S/R2W; then

(8) Proceed southeast along the 200-foot elevation contour, crossing over the northeast corner of the Newberg map and onto the Sherwood map, to the intersection of the elevation contour with Edy Road in section 25, T2S/R2W; then

(9) Proceed southwest along the 200-foot elevation contour, crossing onto the Newberg map and back onto the Sherwood map, to the intersection of the elevation contour with Elwert Road along the eastern boundary of section 25, T2S/R2W; then

(10) Proceed south along Elwert Road for 0.85 mile to its intersection with an unnamed highway known locally as Oregon Highway 99W, along the eastern boundary of section 36, T2S/R2W; then

(11) Proceed southwesterly along Oregon Highway 99W for 0.45 mile to its intersection with the 250-foot elevation contour immediately south of an unnamed tributary of Cedar Creek in section 36, T2S/R2W; then

(12) Proceed southerly along the 250-foot elevation contour for 1 mile to its intersection with Middleton Road in section 1, T2S/R2W; then

(13) Proceed southwesterly along Middleton Road, which becomes Rein Road, for 0.5 mile to the intersection of the road with the 200-foot elevation contour immediately south of Cedar Creek; then

(14) Proceed easterly along the 200-foot elevation contour for 1.6 miles to its intersection with an unnamed light-duty east-west road known locally as Brookman Road in the village of Middleton, section 6, T3S/R1W; then

(15) Proceed east on Brookman Road for 0.4 mile to its intersection with the shared Washington-Clackamas County line at the western corner of section 5, T3S/R1W; then

(16) Proceed south along the Washington-Clackamas County line for 1 mile to its intersection with Parrett Mountain Road along the eastern boundary of section 7, T3S/R1W; then

(17) Proceed southwesterly along Parrett Mountain Road, crossing onto the Newberg map, for a total of 2.6 miles, to the intersection with an unnamed local road known locally as NE Old Parrett Mountain Road; then

(18) Proceed west along NE Old Parrett Mountain Road for 1.7 mile to its intersection with NE Schaad Road; then

(19) Proceed west along NE Schaad Road for 0.5 mile to its intersection with an unnamed local road known locally as NE Corral Creek Road; then

(20) Proceed north along NE Corral Creek Road for 0.9 mile to its westernmost intersection with an unnamed local road known locally as NE Veritas Lane, south of Oregon Highway 99W; then

(21) Proceed north westerly in a straight line for approximately 0.05 mile to the intersection of Oregon Highway 99W and the 250-foot elevation contour; then

(22) Proceed northwesterly along the 250-foot elevation contour for 1 mile to its intersection with the second, westernmost intermittent stream that is an unnamed tributary of Spring Brook; then

(23) Proceed northerly along the unnamed stream, crossing the single-gauge railroad track, for 0.5 mile to the intersection of the stream with the 430-foot elevation contour; then

(24) Proceed west along the 430-foot elevation contour for 0.25 mile, crossing an unnamed road known locally as Owls Lane, to the intersection of the elevation contour with NE Kincaid Road; then

(25) Proceed northwesterly along NE Kincaid Road for 0.25 mile to its intersection with NE Springbrook Road; then

(26) Proceed northwesterly along NE Springbrook Road for 0.22 mile to its intersection with an unnamed road known locally as Bell Road; then

(27) Proceed east along Bell Road for 0.5 mile, making a sharp northwesterly turn, then continuing along the road for 0.2 mile to its intersection with Mountain Top Road; then

(28) Proceed northwesterly along Mountain Top Road for 1.9 miles to its intersection with SW Hillsboro Highway, also known as Highway 219; then

(29) Proceed north along SW Hillsboro Highway for 0.1 mile to its intersection with Mountain Top Road at the Washington-Yamhill County line; then

(30) Proceed northwest along Mountain Top Road for 3.1 miles, crossing onto the Dundee map, to the intersection of the road with Bald Peak Road in section 26, T2S/R3W; then

(31) Proceed northwest, then northeast, then north along Bald Peak Road, crossing onto the Laurelwood map, for a total of 4.8 miles, to the intersection of the road with SW Laurelwood Road; then

(32) Proceed southwest, then northwest, along SW Laurelwood Road for 0.8 mile to its intersection with the 700-foot elevation contour; then

(33) Proceed northeast, then northwest, then north along the 700-foot elevation contour for 5 miles, passing west of Iowa Hill and Spring Hill, to the intersection of the elevation contour and SW Winters Road; then

(34) Proceed north on SW Winters Road for 2 miles, returning to the beginning point.

Dated: March 25, 2019.
John J. Manfreda,
Administrator.
Approved: April 30, 2019.
Timothy E. Skud,
Deputy Assistant Secretary (Tax, Trade, and Tariff Policy).

[FR Doc. 2019-12872 Filed 6-18-19; 8:45 am]

BILLING CODE 4810-31-P